DEPARTMENT OF EDUCATION

Proposed Waiver and Extension of the Project Period for the Native American Career and Technical Education Program

[Catalog of Federal Domestic Assistance (CFDA) Number: 84.101A.]

AGENCY: Office of Career, Technical, and Adult Education, Department of Education.

ACTION: Proposed waiver and extension of the project period.

SUMMARY: For the Native American Career and Technical Education Program (NACTEP), the Secretary proposes to: (1) Waive the requirements in 34 CFR 75.261(a) and (c)(2) that generally prohibit project extensions involving the obligation of additional Federal funds; and (2) extend the project periods for the current 30 NACTEP grantees for an additional 12 months under the existing program authority. This proposed waiver and extension would allow the 30 current NACTEP grantees to seek fiscal year (FY) 2017 continuation awards for project periods through FY 2018 under the existing program authority.

DATES: We must receive your comments on or before May 26, 2017.

ADDRESSES: Address all comments regarding this proposed extension and waiver to Gwen Washington, room 11076, or Linda Mayo, Room 11075, U.S. Department of Education, 400 Maryland Avenue SW., Potomac Center Plaza (PCP), Washington, DC 20202-7241. If you prefer to send your comments by email, use one of the following addresses: gwen.washington@ed.gov or linda.mayo@ed.gov. You must include “Proposed Waiver and Extension for NACTEP” in the subject line of your message.

FOR FURTHER INFORMATION CONTACT: Gwen Washington by telephone at (202) 245-7790 or by email at gwen.washington@ed.gov. You may also contact Linda Mayo by telephone at (202) 245-7792 or by email at linda.mayo@ed.gov. If you use a telecommunications device for the deaf (TDD), or a text telephone (TTY), call the Federal Relay Service, toll free, at 1-800-877-8339.

SUPPLEMENTARY INFORMATION:

Invitation To Comment: We invite you to submit comments regarding this proposed waiver and extension of the project period.

During and after the project period, you may inspect all public comments about this proposed waiver and extension in Room 11076 or Room 11075, PCP, 550 12th Street SW., Washington, DC, between the hours of 8:30 a.m. and 4:00 p.m., Washington, DC time, Monday through Friday of each week, except Federal holidays.

Assistance to Individuals With Disabilities in Reviewing the Rulemaking Record: On request, we will provide an appropriate accommodation or auxiliary aid to an individual with a disability who needs assistance to review the comments or other documents in the public rulemaking record for this notice. If you want to schedule an appointment for this type of aid, please contact one of the persons listed under FOR FURTHER INFORMATION CONTACT.

Background

The NACTEP, as authorized by section 116 of the Carl D. Perkins Career and Technical Education Act of 2006 (the Act), provides grants to improve career and technical education programs that are consistent with the purposes of the Act and that benefit Native Americans and Alaska Natives. The Act also provides that NACTEP programs should build on the efforts of States and localities to develop challenging academic and technical standards and to assist students in meeting such standards, including preparation for high-skill, high-wage, or high-demand occupations in emerging or established professions. (20 U.S.C. 2301(1)).

In addition, programs are required to provide technical assistance that promotes leadership, initial preparation, and professional development and improves the quality of career and technical education teachers, faculty, administrators, and counselors. (20 U.S.C. 2301(5)).

Additionally, NACTEP programs generally support partnerships among secondary schools, postsecondary institutions, baccalaureate degree-granting institutions, area career and technical education schools, local workforce investment boards, business and industry, and intermediaries, as well as provide, in conjunction with other education and training programs, individuals with opportunities throughout their lives to develop the knowledge and skills needed to keep the United States competitive. (20 U.S.C. 2301(6) and (7)).

On February 26, 2013, we published in the Federal Register (78 FR 13030) a notice inviting applications under NACTEP (2013 NIA), to operate career and technical education programs, as authorized by section 116(a) through (g) of the Act. (20 U.S.C. 2326(a)-(g)).

In FY 2013, the Department funded two-year awards to NACTEP projects that were scheduled to end in FY 2015. On February 10, 2015, we published in the Federal Register (80 FR 7439), a proposed waiver and extension of the project period for the NACTEP grants. In that notice, we stated that we did not believe it would be in the public interest to hold a new NACTEP competition in FY 2015, due to the potential for changes in the authorizing legislation for NACTEP beyond 2015, resulting in projects that might then operate for just one year. Following that notice and consideration of the comments received in response to it, on July 6, 2015, we published in the Federal Register (80 FR 38440), a notice of final waiver and extension of the project period for the NACTEP, waiving the requirements of 34 CFR 75.261(a) and (c)(2) that generally prohibit project period extensions involving the obligation of additional Federal funds. Therefore, the NACTEP grantees were permitted to request an extension of the project period for up to an additional 24 months.

In this notice, we are proposing to waive the requirements in 34 CFR 75.261(a) and (c)(2) in order to allow the Department to consider current grantee requests to extend the project period for an additional 12 months. Given that these funds expire by September 30, 2017, there would be limited time to conduct a NACTEP competition and provide the new administration sufficient time to determine its career and technical education priorities. Therefore, the Department believes it is in the best interest of the public to extend the existing grants for an additional 12 months.

If this proposed waiver becomes final through a notice of final waiver and extension of the project period published in the Federal Register: (1) The requirements applicable to continuation awards for current NACTEP grantees set forth in the 2013 NIA and the requirements in 34 CFR 75.253 would apply to any continuation awards sought by current NACTEP grantees; (2) we will make decisions regarding the continuation awards based on grantee program narratives, budgets and budget narratives, and program performance reports and the requirements in 34 CFR 75.253; and (3) we will not announce a new competition or make new awards in FY 2017.

The proposed waiver and project period extension would not exempt the current NACTEP grantees from the appropriation account closing provisions of 31 U.S.C. 1552(a), nor would they extend the availability of funds previously awarded to current NACTEP grantees. As a result of 31 U.S.C. 1552(a), appropriations available for a limited period may be used for payment of valid obligations for only five years after the expiration of their period of availability for Federal obligation. After that time, the unexpended balance of those funds is canceled and returned to the U.S. Department of the Treasury and is unavailable for restoration for any purpose (31 U.S.C. 1552(b)).

Regulatory Flexibility Act Certification

The Secretary certifies that the proposed waiver and extension and the activities required to support additional months of funding would not have a significant economic impact on a substantial number of small entities.

The small entities that would be affected by this proposed waiver and extension are the 30 currently funded NACTEP grantees and any other potential applicants. The Secretary certifies that the proposed waiver and extension would not have a significant economic impact on these entities because the extension of an existing project imposes minimal compliance costs, and the activities required to support the additional years of funding would not impose additional regulatory burdens or require unnecessary Federal supervision.

Paperwork Reduction Act of 1995

This notice of proposed waiver and extension contains information collection requirements approved by OMB under control number 1830-0542; this proposed waiver and extension does not cause any changes to the approved OMB information collection.

Intergovernmental Review

The NACTEP is not subject to Executive Order 12372 and regulations in 34 CFR part 79.

Accessible Format: Individuals with disabilities can obtain this document in an accessible format (e.g., braille, large print, audiotape, or compact disc) on request to the contact person listed under FOR FURTHER INFORMATION CONTACT.

Electronic Access to This Document: The official version of this document is the document published in the Federal Register. Free internet access to the official edition of the Federal Register and the Code of Federal Regulations is available via the Federal Digital System at: www.gpo.gov/fdsys. At this site, you can view this document, as well as all other documents of this Department published in the Federal Register, in text or Portable Document Format (PDF). To use PDF you must have Adobe Acrobat Reader, which is available free at this site.

You may also access documents of the Department published in the Federal Register by using the article search feature at: www.federalregister.gov. Specifically, through the advanced search feature at this site, you can limit your search to documents published by the Department.

Kim R. Ford,
Delegated the Duties of the Assistant Secretary for Career, Technical, and Adult Education.

[FR Doc. 2017-08449 Filed 4-25-17; 8:45 am]

BILLING CODE 4000-01-P